DEPARTMENT OF ENERGY

Federal Energy Regulatory Commission

Notice of Effectiveness of Exempt Wholesale Generator Status

Oak Grove Management Company LLC | EG15-58-000
Sandow Power Company LLC | EG15-59-000
Solar Star Colorado III, LLC | EG15-60-000
Bear Mountain Limited | EG15-61-000
Chalk Cliff Limited | EG15-62-000
McKittrick Limited | EG15-63-000
Live Oak Limited | EG15-64-000
NTE Carolinas, LLC | EG15-65-000
NTE Ohio, LLC | EG15-66-000
Arbuckle Mountain Wind Farm LLC | EG15-67-000
Waverly Wind Farm LLC | EG15-68-000
Benson Power, LLC | EG15-69-000
CPV Biomass Holdings, LLC | EG15-70-000

Take notice that during the month of May 2015, the status of the above-captioned entities as Exempt Wholesale Generators became effective by operation of the Commission's regulations. 18 CFR 366.7(a).

Dated: June 15, 2015.
Kimberly D. Bose,
Secretary.

[FR Doc. 2015-15106 Filed 6-18-15; 8:45 am]

BILLING CODE 6717-01-P